DEPARTMENT OF JUSTICE

Antitrust Division

Notice Pursuant to the National Cooperative Research and Production Act of 1993—Specialty Vehicle Institute of America

Notice is hereby given that, on February 5, 2016, pursuant to Section 6(a) of the National Cooperative Research and Production Act of 1993, 15 U.S.C. 4301 et seq. (“the Act”), Specialty Vehicle Institute of America (“SVIA”) has filed written notifications simultaneously with the Attorney General and the Federal Trade Commission disclosing changes in its membership. The notifications were filed for the purpose of extending the Act's provisions limiting the recovery of antitrust plaintiffs to actual damages under specified circumstances. Specifically, Arctic Cat Inc., Thief River Falls, MN; BRP, Inc., Valcourt, QUEBEC; American Honda Motor Corp., Torrance, CA; Kawasaki Motors Corp., U.S.A., Irvine, CA; KYMCO USA, Spartanburg, SC; Polaris Industries Inc., Medina, MN; Textron Inc., Providence, RI; and Yamaha Motor Corporation, U.S.A., Cypress, CA, have been added as parties to this venture.

No other changes have been made in either the membership or planned activity of the group research project. Membership in this group research project remains open, and SVIA intends to file additional written notifications disclosing all changes in membership.

On October 14, 2005, SVIA filed its original notification pursuant to Section 6(a) of the Act. The Department of Justice published a notice in the Federal Register pursuant to Section 6(b) of the Act on November 25, 2005 (70 FR 71172).

Patricia A. Brink,
Director of Civil Enforcement, Antitrust Division.

[FR Doc. 2016-05297 Filed 3-8-16; 8:45 am]

BILLING CODE P